DEPARTMENT OF TRANSPORTATION

Coast Guard

33 CFR Part 117

[CGD13-99-005]

Drawbridge Operations Regulations; Duwamish Waterway and Lake Washington Ship Canal, WA

AGENCY: Coast Guard, DOT.

ACTION: Final rule.

SUMMARY: The Coast Guard is amending the operating regulations for the City of Seattle drawbridges across the Lake Washington Ship Canal and the Washington state drawbridge across the Duwamish Waterway in Seattle, Washington. The normal drawspan closed periods for Monday through Friday will now also be applied to Columbus Day to accommodate commuter traffic that remains heavy on this Federal holiday. Other Federal holidays remain exempted from the weekday closed periods.

DATES: This rule is effective July 20, 2001.

ADDRESSES: The public docket and all documents referred to in this notice are available for inspection and copying at the Thirteenth Coast Guard District, Aids to Navigation and Waterways Management Office, 915 Second Avenue, room 3510, Seattle, Washington 98174-1067, between 7:45 a.m. to 4:15 p.m., Monday through Friday, except Federal holidays.

FOR FURTHER INFORMATION CONTACT: Austin Pratt, Chief, Bridge Section, Telephone (206) 220-7282.

SUPPLEMENTARY INFORMATION:

Regulatory Information

On April 27, 1999, a notice of proposed rulemaking was published in the Federal Register entitled Drawbridge Operations Regulations; Duwamish Waterway and Lake Washington Ship Canal, WA (64 FR 22593). The Coast Guard received no comments in response to the notice. No public hearing was requested and none was held.

Background and Purpose

The purpose of the change to §§ 117.1041 and 117.1051 is to alleviate commuter traffic congestion by removing Columbus Day from the existing Federal holiday exemption for the dual First Avenue South Drawbridges across the Duwamish Waterway, mile 2.5, and the drawbridges across the Lake Washington Ship Canal east of the Chittenden Locks. These bridges from seaward are the Ballard Bridge at mile 1.1, the Fremont Bridge at mile 2.6, the University Bridge at mile 4.3, and the Montlake Bridge at mile 5.2. The regulations which are currently in effect authorize various weekday closed periods during the hours of heavy commuting so that openings for vessels will not worsen traffic congestion. These closed periods do not apply on weekends or Federal holidays because the affected streets are not as heavily traveled on those holidays. Columbus Day does not warrant this exemption. Many employers in the Seattle area do not honor this holiday and, as a result, the volume of commuter traffic does not appreciably diminish on that day. Openings for the passage of vessels on this day at times of peak traffic can cause significant delay to street traffic. The amendment would treat Columbus Day as any other weekday for opening the drawspans. The amendment also deletes reference to notification of the Seattle City Engineer for emergency openings of the Lake Washington Ship Canal bridges. Emergency openings will be provided in accordance with 33 CFR 117.31. This change reflects the Coast Guard's policy that notification made to the bridge tender is sufficient for declaration of emergency requiring immediate opening of the draw.

Regulatory Evaluation

This rule is not a “significant regulatory action” under Section 3(f) of Executive Order 12866 and does not require an assessment of potential costs and benefits under section 6(a)(3) of that Order. The Office of Management and Budget has not reviewed it under that Order. It is not significant under the regulatory policies and procedures of the Department of Transportation (DOT)(44 FR 11040; February 26, 1979).

We expect the economic impact of this rule to be so minimal that a full regulatory evaluation under paragraph 10(e) of the regulatory policies and procedures of DOT is unnecessary. This is based on the fact that only a certain class of vessel would be affected one day annually by this change. The change will improve commuter traffic flow and enhance navigational safety on the Lake Washington Ship Canal by simplifying the procedure for requesting an emergency opening of drawspans.

Indian Tribal Governments

This rule does not have tribal implications under Executive Order 13175, Consultation and Coordination with Indian tribal governments, because it does not have a substantial direct effect on one or more Indian tribes, on the relationship between the federal government and Indian tribes, or on the distribution of power and responsibilities between the federal government and Indian tribes.

Small Entities

Under the Regulatory Flexibility Act (5 U.S.C. 601 et seq.), we considered whether this rule would have a significant economic impact on a substantial number of small entities. The term “small entities” include small businesses, not-for profit organizations that are independently owned and operated and are not dominant in their fields, and governmental jurisdictions with populations less than 50,000.

The Coast Guard certifies under 5 U.S.C. 605(b) of the Regulatory Flexibility Act that this rule will not have a significant impact on a substantial number of small entities. The change adds only one day of the year to those which have closed periods to accommodate heavy road traffic.

Collection of Information

This rule does not provide for a collection of information under the Paperwork Reduction Act of 1995 (44 U. S. C. 3501 et seq.).

Federalism

We have analyzed this rule under Executive Order 13132 and have determined that this rule does not have implications for federalism under that Order.

Unfunded Mandates Reform Act

The Unfunded Mandate Reform Act of 1995 (2 U.S.C. 1531-1538) governs the issuance of federal regulations that require unfunded mandates. An unfunded mandate is a regulation that requires a state, local, or tribal government or the private sector to incur direct costs without the federal government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Environment

The Coast Guard considered the environmental impact of this rule and concluded that, under Figure 2-1, paragraph (32)(e) of Commandant Instruction M16475.1C, this rule is categorically excluded from further environmental documentation because promulgation of changes to drawbridge regulations have been found not to have a significant effect on the environment. A written “Categorical Exclusion Determination” is not required for this rule.

List of Subjects in 33 CFR Part 117

Bridges.

Regulations

For the reasons set out in the preamble, the Coast Guard amends 33 CFR part 117 as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. Revise § 117.1041(a)(1) to read as follows:

§ 117.1041 Duwamish Waterway.

(a) * * *

(1) From Monday through Friday, except all Federal holidays but Columbus Day, the draws of the First Avenue South Bridges, mile 2.5, need not be opened for the passage of vessels from 6 a.m. to 9 a.m. and from 3 p.m. to 6 p.m., except: The draws shall open at any time for a vessel of 5000 gross tons and over, a vessel towing a vessel of 5000 gross tons and over, and a vessel proceeding to pick up for towing a vessel of 5000 gross tons and over.

* * * * *

3. Revise § 117.1051(d)(2) to read as follows:

§ 117.1051 Lake Washington Ship Canal.

* * * * *

(d) * * *

(2) The draws need not open from 7 a.m. to 9 a.m. and from 4 p.m. to 6 p.m. Monday through Friday, except all Federal holidays but Columbus Day for any vessel of less than 1000 tons, unless the vessel has in tow a vessel of 1000 gross tons or over.

* * * * *

Dated: June 5, 2001.
Erroll Brown,
Rear Admiral, U.S. Coast Guard, Commander, Thirteenth Coast Guard District.

[FR Doc. 01-15553 Filed 6-19-01; 8:45 am]

BILLING CODE 4910-15-P